DEPARTMENT OF THE INTERIOR

Bureau of Land Management

[PO#4820000251; Order #02412-014-004-047181.0]

Intent To Prepare the Bakersfield Field Office Oil and Gas Supplemental Environmental Impact Statement and Potential Resource Management Plan Amendment, California

AGENCY: Bureau of Land Management, Interior.

ACTION: Notice of intent.

SUMMARY: In compliance with the National Environmental Policy Act (NEPA) of 1969, as amended, and the Federal Land Policy and Management Act (FLPMA) of 1976, as amended, the Bureau of Land Management (BLM) California intends to prepare a supplemental environmental impact statement (EIS) and a potential resource management plan (RMP) amendment for the Bakersfield Field Office. The supplemental EIS will analyze the impacts of oil and gas leasing and development on BLM-managed public land and mineral estate in the Bakersfield Field Office planning area exclusive of the California Coastal National Monument and the Carrizo Plain National Monument. Lands withdrawn from mineral entry by law, including national monuments and designated wilderness areas, would remain unavailable for leasing and development. This notice initiates the process to solicit public comments to identify issues and announces a potential RMP amendment.

DATES: The BLM requests that the public submit comments by July 23, 2025. The BLM will provide additional opportunities for public participation upon publication of the draft supplemental EIS.

ADDRESSES: You may submit comments on issues and planning criteria related to this supplemental EIS and potential RMP amendment through the BLM National NEPA Register: https://eplanning.blm.gov/eplanning-ui/project/2037500/510.

Documents pertinent to this proposal may be examined during regular business hours at Bureau of Land Management, Bakersfield Field Office, 35126 McMurtrey Ave, Bakersfield, CA 93308.

FOR FURTHER INFORMATION CONTACT: Sarah Mathews, Project Manager, Bureau of Land Management, 35126 McMurtrey Ave, Bakersfield, CA 93308, telephone: (661) 391-6145; or email: BLM_CA_BKFO_OIL_GAS_SEIS@blm.gov. Individuals in the United States who are deaf, blind, hard of hearing, or have a speech disability may dial 711 (TTY, TDD, or TeleBraille) to access telecommunications relay services for contacting Ms. Mathews. Individuals outside the United States should use the relay services offered within their country to make international calls to the point-of-contact in the United States.

SUPPLEMENTARY INFORMATION: This document provides notice that the BLM California Bakersfield Field Office will prepare, in accordance with FLPMA and NEPA, a supplemental EIS for oil and gas leasing and development and a potential RMP amendment for the 2014 Bakersfield Field Office RMP. Furthermore, this document announces the beginning of the scoping process and seeks public input on issues and planning criteria, which may inform whether the BLM will amend the current RMP. Based on information gathered during scoping, the BLM may consider additional alternatives.

The planning area is located in Fresno, Kern, Kings, Madera, San Luis Obispo, Santa Barbara, Tulare, and Ventura counties in California and encompasses approximately 400,000 acres of public land and an additional 450,000 acres of Federal mineral estate (i.e., split estate). In addition, the BLM intends to include an analysis in the supplemental EIS concerning a previous implementation level decision issuing seven oil and gas leases, encompassing 4,134 acres of public land in Kern County.

The scope of this land use planning process does not include addressing the evaluation or designation of areas of critical environmental concern (ACEC) and the BLM is not considering ACEC nominations as part of this process.

Purpose and Need

The purpose of the supplemental EIS is to analyze the environmental effects of oil and gas leasing and development within the planning area and to determine whether changes are needed to the fluid minerals decisions in the Bakersfield Field Office based on new information or changes in circumstances. The need to develop the supplemental EIS is established by the settlement agreement in Case No. 2:20-cv-00371-DSF and Case No. 1:21-cv-00475-DAD-SAB, filed with the U.S. District Court for the Central District of California Western Division and the U.S. District Court for the Eastern District of California on July 29, 2022.

Preliminary Alternatives

Portions of the plan will be brought forward from the existing Bakersfield RMP approved on December 22, 2014, and all alternatives from the supplemental EIS for hydraulic fracturing approved on December 12, 2019, will be considered. The potential for an RMP amendment is dependent upon alternative selection. The BLM welcomes comments on all preliminary alternatives as well as suggestions for additional alternatives.

Planning Criteria

Preliminary issues for the supplemental EIS have been identified by BLM personnel; Federal, State, and local agencies; and other stakeholders. The issues may include but are not limited to air quality; water quality; special status species; archaeology; fluid mineral resources (oil and gas); and social and economic conditions.

Preliminary planning criteria include:

1. Only those portions of the existing plan that need to be updated to respond to the issues and management concerns identified in the court order and settlement agreement will be reviewed. Other portions of the plan will be brought forward from the existing Bakersfield RMP approved on December 22, 2014, and the supplemental EIS for hydraulic fracturing approved on December 12, 2019.

2. The planning process will be completed in compliance with FLPMA and all other applicable laws.

3. The planning process will include a Supplemental EIS that will comply with the NEPA standards.

4. The scope of analysis will be consistent with the level of analysis in approved plans and in accordance with Bureau-wide standards and program guidance.

5. Public comments will be addressed during the planning process.

You may submit comments on issues and planning criteria in writing to the BLM using one of the methods listed in the ADDRESSES section above. To be most helpful, you should submit comments by the close of the 30-day scoping period. See the DATES section above.

Summary of Expected Impacts

Federal oil and gas comprise approximately 9 percent of all oil and gas produced in California and is mostly located in western Kern County within the Bakersfield Field Office. Completion of this supplemental EIS will allow the BLM to resume oil and gas leasing within the planning area, which could result in the development of 10 to 40 new oil and gas wells per year on new leases, as described in the reasonably foreseeable development scenario for the Bakersfield RMP completed in the 2012 final EIS. The BLM expects the impacts associated with oil and gas production will be similar to those identified in the 2012 final EIS and the 2019 supplemental EIS for the Bakersfield RMP.

Schedule for the Decision-Making Process

The BLM will provide additional opportunities for public participation consistent with NEPA and land use planning processes. If the BLM prepares an RMP amendment, additional opportunities will include a 90-day comment period on the draft RMP amendment/draft supplemental EIS, a concurrent 30-day public protest period, and a 60-day Governor's consistency review on the proposed RMP amendment/final supplemental EIS. The draft RMP amendment/draft supplemental EIS is anticipated to be available for public review in late summer/early fall 2025 and the proposed RMP amendment/final supplemental EIS is anticipated to be available for public protest in early winter 2025 with an approved RMP amendment and record of decision in late winter 2026.

Public Scoping Process

All public scoping comments must be submitted by email or by mail to the addresses listed under ADDRESSES. The purpose of the public scoping process is to determine relevant issues that will influence the scope of the environmental analysis, including alternatives if necessary, and guide the planning process.

Responsible Official

The California State Director is the deciding official for this planning effort.

Nature of Decision To Be Made

The nature of the decision to be made will be the State Director's selection of land use planning decisions pursuant to this potential RMP amendment for managing BLM-administered lands under the principles of multiple use and sustained yield in a manner that best addresses the purpose and need.

Additional Information

The BLM will utilize and coordinate the NEPA and land use planning processes for this planning effort to help support compliance with applicable procedural requirements under the Endangered Species Act (16 U.S.C. 1536) and section 106 of the National Historic Preservation Act (54 U.S.C. 306108) as provided in 36 CFR 800.2(d)(3), including public involvement requirements of section 106. The information about historic and cultural resources and threatened and endangered species within the area potentially affected by the proposed plan amendment will assist the BLM in identifying and evaluating impacts to such resources.

The BLM will consult with Indian Tribal Nations on a government-to-government basis in accordance with Executive Order 13175, BLM MS 1780, and other Departmental policies. Tribal concerns, including impacts on Indian trust assets and potential impacts to cultural resources, will be given due consideration. Federal, State, and local agencies, along with Indian Tribal Nations and other stakeholders that may be interested in or affected by the proposed action that the BLM is evaluating, are invited to participate in the scoping process and, if eligible, may request or be requested by the BLM to participate in the development of the environmental analysis as a cooperating agency.

Before including your address, phone number, email address, or other personal identifying information in your comment, you should be aware that your entire comment—including your personal identifying information—may be made publicly available at any time. While you can ask us in your comment to withhold your personal identifying information from public review, we cannot guarantee that we will be able to do so.

(Authority: 43 CFR 46.435 and 43 CFR 1610.2)

Joseph Stout,
State Director.

[FR Doc. 2025-11481 Filed 6-20-25; 8:45 am]

BILLING CODE 4331-15-P